ENVIRONMENTAL PROTECTION AGENCY

[EPA-HQ-OA-2024-0043; FRL-12321-01-OA]

National Environmental Youth Advisory Council; Notification of Public Meeting

AGENCY: Environmental Protection Agency (EPA).

ACTION: Notice of meeting.

SUMMARY: Pursuant to the Federal Advisory Committee Act (FACA), the U.S. Environmental Protection Agency (EPA) hereby provides notice that the National Environmental Youth Advisory Council (NEYAC) will meet on the date and time described below. The meeting is open to the public. For additional information about registering to attend the meeting or to provide a public comment, see the “Public Participation” heading of the SUPPLEMENTARY INFORMATION section of this document. Due to unforeseen administrative circumstances, EPA is announcing this meeting with less than 15 calendar days' notice.

DATES: The NEYAC will convene a virtual public meeting on Tuesday, October 22, 2024. A public comment period relevant to the NEYAC will be considered by the NEYAC at the meeting (see SUPPLEMENTARY INFORMATION). Members of the public who wish to participate during the public comment period must register by 11:59 p.m., eastern time, Tuesday, October 15, 2024.

ADDRESSES: You may send comments, identified by Docket ID No. EPA-HQ-OA-2024-0043, by any of the following methods:

• Federal eRulemaking Portal: https://www.regulations.gov/ (our preferred method). Follow the online instructions for submitting comments.

• Email: neyac@epa.gov. Include Docket ID No. EPA-HQ-OA-2024-0043 in the subject line of the message.

Instructions: All submissions received must include the Docket ID No. for this public meeting. Comments received may be posted without change to https://www.regulations.gov/, including any personal information provided. Comments must be submitted by 11:59 p.m. eastern time on Tuesday, November 5, 2024. For detailed instructions on sending comments and additional information on the rulemaking process, see the “Public Participation” heading of the SUPPLEMENTARY INFORMATION section of this document.

The virtual meeting will be through an online audio and video platform. The meeting will convene on Tuesday, October 22, from 12 p.m. to 4:00 p.m. eastern time. Refer to the SUPPLEMENTARY INFORMATION section below for additional information.

FOR FURTHER INFORMATION CONTACT: Carissa Cyran, NEYAC Designated Federal Officer (1702A), Environmental Protection Agency, 1200 Pennsylvania Ave. NW, Washington, DC 20460; telephone number: (202) 566-1353; email address: cyran.carissa@epa.gov. Additional information about the NEYAC is available at https://www.epa.gov/faca/national-environmental-youth-advisory-council-neyac.

SUPPLEMENTARY INFORMATION: The NEYAC will present the final recommendations to EPA on the topics the council has been deliberating, which include environmental justice and youth, climate change and environmental justice, and food loss and waste. EPA will also present the next set charge questions to the NEYAC. An agenda and meeting material will be posted online at https://www.epa.gov/faca/national-environmental-youth-advisory-council-neyac-meetings.

I. Public Participation

Individual registration is required for the public meeting. No two individuals can share the same registration link. Members of the public wishing to attend or participate virtually must contact neyac@epa.gov with your name, organization, city and state, and email address to receive a link to the meeting. Please also indicate whether you would like to provide public comment during the meeting, or if you are submitting written comments. Registration to attend the meeting is available until the scheduled end time of the meeting. Registration to speak during the public comment period will close at 11:59 p.m., eastern time, on Tuesday, October 15, 2024. Information on how to register is located at https://www.epa.gov/faca/national-environmental-youth-advisory-council-neyac.

A. Written Comments

Submit your comments, identified by Docket ID No. EPA-HQ-OA-2024-0043, at https://www.regulations.gov (our preferred method), or the other methods identified in the ADDRESSES section. Comments must be submitted by 11:59 p.m. eastern time on Tuesday, November 5, 2024. Once submitted, comments cannot be edited or removed from the docket. EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

B. Participation Virtually Public Meeting

The NEYAC will hear comments from the public from approximately 2:45 p.m.-3:15 p.m. eastern time. EPA will begin pre-registering speakers for the public meeting upon publication of this document in the Federal Register. To register to speak, please use the online registration form available at https://www.epa.gov/faca/national-environmental-youth-advisory-council-neyac. The last day to pre-register to speak at the public meeting will be at 11:59 p.m., eastern time, on Tuesday, October 15, 2024.

Time will be allotted on a first-come first-served basis, and the total period for comments may be extended if the number of requests for appearances requires it. EPA will make every effort to follow the schedule as closely as possible on the day of the public meeting; however, please plan for the meeting to run either ahead of schedule or behind schedule.

Individuals or groups making remarks during the public comment period will be limited to two (2)-three (3) minutes. Please be prepared to briefly describe your issue and your recommendation relevant to the current charges, topics, and questions under consideration by the NEYAC. EPA also recommends submitting the text of your oral comments as written comments to the rulemaking docket.

Written statements and supporting information submitted during the comment period will be considered with the same weight as oral comments and supporting information presented at the public meeting.

Please note that any updates made to any aspect of the public meeting are posted online at https://www.epa.gov/faca/national-environmental-youth-advisory-council-neyac. While EPA expects the public meeting to go forward as set forth above, please monitor our website. EPA does not intend to publish a document in the Federal Register announcing updates.

C. Information About Services for Individuals With Disabilities or Requiring English Language Translation Assistance

To request special accommodations for a disability or other assistance, please submit your request at least five (5) working days prior to the meeting to give EPA sufficient time to process your request. All requests should be sent to the email listed in the FOR FURTHER INFORMATION CONTACT section. Due to unforeseen administrative circumstances, EPA is announcing this meeting with less than 15 calendar days' notice.

Jessica Loya,
Deputy Associate Administrator, Office of Public Engagement and Environmental Education, Office of the Administrator.

[FR Doc. 2024-23314 Filed 10-8-24; 8:45 am]

BILLING CODE 6560-50-P